DEPARTMENT OF JUSTICE

Notice of Lodging of Consent Decree Under the Comprehensive Environmental Response, Compensation, and Liability Act

Notice is hereby given that on October 31, 2008, a proposed Settlement Agreement in United States v. Vertac Chemical Corp., et al., Civil Action No. LR-C-80-109, was lodged with the United States District Court for the Western District of Arkansas.

Plaintiff the United States of America (“United States”), on behalf of the Administrator of the United States Environmental Protection Agency (“EPA”) and defendant Hercules Incorporated (“Hercules”) and defendant Uniroyal Chemical Ltd. (“Uniroyal” n/k/a Chemtura Canada Co./Cie.) (collectively referred to as the “Defendants”) have entered into a Settlement Agreement, Stipulated Order and Judgment (“Settlement Agreement”) to settle the United States’ claims against Defendants for the recovery of response costs from June 1, 1998 through September 1, 2008, in connection with the Vertac Inc. Superfund Site (“Vertac Site”) in Jacksonville, Arkansas, and the Jacksonville Municipal Landfill Superfund Site (“Jacksonville Site”) also in Jacksonville, Arkansas (collectively, the “Sites”), under the Comprehensive, Environmental, Response, Compensation and Liability Act (“CERCLA”), 42 U.S.C. 9601, et seq. The proposed Settlement Agreement provides for the payment of $14,494,921.86 by defendant Hercules, and the payment of $380,11.92 by defendant Uniroyal.

The Department of Justice will receive for a period of thirty (30) days from the date of this publication comments relating to the Settlement Agreement. Comments should be addressed to the Assistant Attorney General for the Environment and Natural Resources Division, U.S. Department of Justice, and either e-mailed to pubcomment-ees.enrd@usdoj.gov or mailed to P.O. Box 7611, NW., Washington, DC 20044-7611, and should refer to United States v. Vertac Chemical Corp., et al., DOJ. Ref. 90-7-1-18B.

The Settlement Agreement may be examined at the Office of the United States Attorney, Western District of Arkansas, 425 West Capitol Avenue, Suite 500, Little Rock, AR 72201-3452, and at the offices of EPA, Region 6, 1445 Ross Ave., Dallas, TX 75202-2733. During the public comment period, the Settlement Agreement, may also be examined on the following Department of Justice Web site, to http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury or, if by e-mail or fax, forward a check in that amount to the Consent Decree Library at the stated address.

Thomas A. Mariani, Jr.,
Assistant Section Chief, Environmental Enforcement Section, Environment and Natural Resources Division.

[FR Doc. E8-27215 Filed 11-14-08; 8:45 am]

BILLING CODE 4410-15-P